DEPARTMENT OF AGRICULTURE

Agricultural Marketing Service

7 CFR Part 1216

[Document Number AMS-SC-18-0103]

Peanut Promotion, Research and Information Order; Continuance Referendum

AGENCY: Agricultural Marketing Service, Agriculture.

ACTION: Notification of referendum.

SUMMARY: This document directs that a referendum be conducted among eligible producers of peanuts to determine whether they favor continuance of the Agricultural Marketing Service (AMS) regulations regarding a national peanut research and promotion program.

DATES: The referendum will be conducted from April 15 through May 3, 2019. The U.S. Department of Agriculture (Department) will provide the option for electronic balloting. Further details will be provided in the ballot instructions. Mail ballots must be postmarked by May 3, 2019. Ballots returned via express mail or electronic means must show proof of delivery by no later than 11:59 p.m. Eastern Time (ET) on May 3, 2019.

ADDRESSES: Copies of the Peanut Promotion, Research and Information Order (Order) may be obtained from: Referendum Agent, Promotion and Economics Division (PED), Specialty Crops Program (SCP), AMS, USDA, Stop 0244, Room 1406-S, 1400 Independence Avenue SW, Washington, DC 20250-0244; telephone: (202) 720-9915; facsimile: (202) 205-2800.

FOR FURTHER INFORMATION CONTACT: Jeanette Palmer, Marketing Specialist, PED, SCP, AMS, USDA, Stop 0244, Room 1406-S, 1400 Independence Avenue SW, Washington, DC 20250-0244; telephone: (202) 720-9915; facsimile: (202) 205-2800; or electronic mail: Jeanette.Palmer@ams.usda.gov.

SUPPLEMENTARY INFORMATION: Pursuant to the Commodity Promotion, Research and Information Act of 1996 (7 U.S.C. 7411-7425) (Act), it is hereby directed that a referendum be conducted to ascertain whether continuance of the Order (7 CFR part 1216) is favored by producers of peanuts covered under the program. The Order is authorized under the Act.

The representative period for establishing voter eligibility for the referendum shall be the period from June 1, 2017 through May 31, 2018. Persons who produced peanuts and were subject to assessments during the representative period are eligible to vote. The referendum shall be conducted by regular U.S. mail or by electronic means from April 15 through May 3, 2019. The Department will provide the option for electronic balloting. Further details will be provided in the ballot instructions.

Section 518 of the 1996 Act (7 U.S.C. 7417) authorizes continuance referenda. Under section 1216.82 of the Order, the Department must conduct a referendum every five years or when 10 percent or more of the eligible peanut producers petition the Secretary of Agriculture to hold a referendum to determine if persons subject to assessment favor continuance of the Order. The Department would continue the Order if continuance is approved by a simple majority of the producers voting in the referendum.

In accordance with the Paperwork Reduction Act of 1995 (44 U.S.C. chapter 35), the referendum ballot has been approved by the Office of Management and Budget (OMB) and assigned OMB No. 0581-0093. It has been estimated that there are approximately 7,000 producers who will be eligible to vote in the referendum. It will take an average of 15 minutes for each voter to read the voting instructions and complete the referendum ballot.

Jeanette Palmer and Heather Pichelman, PED, SCP, AMS, USDA, Stop 0244, Room 1406-S, 1400 Independence Avenue SW, Washington, DC 20250-0244, are designated as the referendum agents to conduct this referendum. The referendum procedures 7 CFR 1216.100 through 1216.107, which were issued pursuant to the Act, shall be used to conduct the referendum.

The referendum agents will distribute the ballots to be cast in the referendum and voting instructions by U.S. mail or through electronic means to all known producers prior to the first day of the voting period. Persons who produced peanuts and were subject to assessments during the representative period are eligible to vote. Any eligible producer who does not receive a ballot should contact a referendum agent as soon as possible. Ballots delivered to the Department via regular U.S. mail must be postmarked by May 3, 2019. Ballots delivered to the Department via express mail or electronic means must show proof of delivery by no later than 11:59 p.m. Eastern Time (ET) on May 3, 2019.

List of Subjects in 7 CFR Part 1216

Administrative practice and procedure, Advertising, Consumer information, Marketing agreements, Peanut promotion, Reporting and recordkeeping requirements.

Authority: 7 U.S.C. 7411-7425 and 7 U.S.C. 7401.

Dated: March 5, 2019.
Erin Morris,
Associate Administrator.

[FR Doc. 2019-04277 Filed 3-8-19; 8:45 am]

BILLING CODE 3410-02-P